CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the Financial Management Survey Form. Copies of the information collection request can be obtained by contacting the office listed below in the ADDRESSES section of this notice.

DATES: Written comments must be submitted to the office listed in the ADDRESSES section by April 12, 2004.

ADDRESSES: You may submit comments, identified by the title of the information collection activity, by any of the following methods:

(1) By mail sent to: Corporation for National and Community Service, Office of Grants Management; Attention Ms. Lois W. Paul, Grants Management Specialist; Room 9712-A, 1201 New York Avenue, NW, Washington, DC, 20525.

(2) By hand delivery or by courier to the Corporation's mailroom at Room 6010 at the mail address given in paragraph (1) above, between 9 a.m. and 4 p.m. Monday through Friday, except Federal holidays.

(3) By fax to: (202) 565-2850, Attention Ms. Lois W. Paul, Grants Management Specialist.

(4) Electronically through the Corporation's e-mail address system: lpaul@cns.gov.

FOR FURTHER INFORMATION CONTACT: Lois W. Paul, (202) 606-5000, ext. 200 or by e-mail at lpaul@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

I. Background

The Corporation developed the Financial Management Survey in fulfillment of its pre-award policy (CFO-029, effective 1/17/02) that provides reasonable assurance that federal grant funds will be expended in ways that meet program objectives, the award terms and conditions; and applicable federal statutes, regulations and guidelines. The Financial Management Survey will standardize the pre-award process and will ensure uniform consideration of the capacity of potential grantees of the Corporation to manage federal funds.

The Financial Management Survey will be used for the following purposes:

(1) As a pre-award assessment tool of the capacity of a potential grantee to manage federal funds in excess of $100,000; and

(2) As part of the basis for determining the financial management areas in which a potential grantee, should it receive an award from the Corporation, may warrant technical assistance.

II. Current Action

The Corporation is seeking public comment for approval of the Financial Management Survey which will be used by Corporation Grants Management Specialists to assess the capacity of potential grantees to manage Federal funds. This assessment involves a review of the potential grantee's responses to general questions about its organizational type, financial systems, how it manages funds, and the internal controls it has in place to segregate and report on Federal funds it might receive. The public affected will be grant applicants that have not previously received Federal funds through an award from the Corporation, or current grantees that are re-competing for funding at the beginning of a new 3-year grant cycle and have been identified as not meeting the exemption critical of the Corporation's pre-award review policy.

Should the entity become a grantee of the Corporation, the information gathered will be maintained in the new grantee's official file and become part of the basis for determining specific areas of its financial management and systems that may benefit from technical assistance from the Corporation, its staff and Training and Technical Assistance (T/TA) providers.

Type of Review: New information collection.

Agency: Corporation for National and Community Service.

Title: Financial Management Survey Form.

OMB Number: None.

Agency Number: None.

Affected Public: First-time grant applicants or current grantees recompeting for funding.

Total Respondents: 25-30 annually.

Frequency: One (1) time.

Average Time Per Response: 5 minutes.

Estimated Total Burden Hours: 2½ hours.

Total Burden Cost (capital/startup): $648.90.

Total Burden Cost (operating/maintenance): None.

Comments submitted in response to this notice will be summarized and/or included in the request for Office of Management and Budget approval of the information collection request; they will also become a matter of public record.

Dated: February 4, 2004.
Peg Rosenberry,
Director, Office of Grants Management.

[FR Doc. 04-2798 Filed 2-9-04; 8:45 am]

BILLING CODE 6050-$$-P